ENVIRONMENTAL PROTECTION AGENCY

[ER-FRL-9032-1]

Environmental Impact Statements; Notice of Availability

Responsible Agency: Office of Federal Activities, General Information (202) 564-7146 or http://www.epa.gov/nepa.

Weekly receipt of Environmental Impact Statements (EISs)

Filed 02/27/2017 Through 03/03/2017

Pursuant to 40 CFR 1506.9.

Notice

Section 309(a) of the Clean Air Act requires that EPA make public its comments on EISs issued by other Federal agencies. EPA's comment letters on EISs are available at: http://www.epa.gov/compliance/nepa/eisdata.html.

EIS No. 20170029, Draft, FERC, WV, Mountaineer and Gulf XPress Projects, Comment Period Ends: 04/24/2017, Contact: Julia Yuan 202-502-8130 EIS No. 20170030, Final, BOEM, Other, Gulf of Mexico OCS Oil and Gas 2017-2022 Multisale, Review Period Ends: 04/09/2017, Contact: Greg Kozlowski 504-736-2512

EIS No. 20170031, Draft, USFS, ID, Big Creek Hot Springs Geothermal Leasing, Comment Period Ends: 04/24/2017, Contact: Julie Hopkins 208-756-5279

Dated: March 6, 2017.
Dawn Roberts,
Management Analyst, NEPA Compliance Division, Office of Federal Activities.

[FR Doc. 2017-04760 Filed 3-9-17; 8:45 am]

BILLING CODE 6560-50-P